DEPARTMENT OF TRANSPORTATION

Federal Aviation Administration

14 CFR Part 71

[Docket No. FAA-2015-7485; Airspace Docket No. 15-AGL-25]

Amendment of Class D and Class E Airspace; Minot, ND

AGENCY: Federal Aviation Administration (FAA), DOT.

ACTION: Final rule, correction.

SUMMARY: This action amends a final rule published in the Federal Register of February 4, 2016, amending Class E surface area airspace and Class E airspace designated as an extension at Minot International Airport, Minot, ND. Adjustment of the geographic coordinates of Minot International Airport and Minot AFB in Class D airspace, and Minot International Airport, Minot Very High Frequency Omnidirectional Range Tactical Air Navigation (VORTAC), and Minot AFB, in Class E airspace extending upward from 700 feet above the surface, are added to the rule. The Title is also amended to include Class D airspace. This does not change the boundaries or operating requirements of the airspace.

DATES: Effective 0901 UTC, March 31, 2016. The Director of the Federal Register approves this incorporation by reference action under Title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy Group, Federal Aviation Administration, 800 Independence Avenue SW., Washington, DC, 29591; telephone: 202-267-8783. The Order is also available for inspection at the National Archives and Records Administration (NARA). For information on the availability of FAA Order 7400.9Z at NARA, call 202-741-6030, or go to http://www.archives.gov/federal_register/code_of_federal-regulations/ibr_locations.html.

FAA Order 7400.9, Airspace Designations and Reporting Points, is published yearly and effective on September 15.

FOR FURTHER INFORMATION CONTACT: Jeffrey Claypool, Federal Aviation Administration, Operations Support Group, Central Service Center, 10101 Hillwood Parkway, Fort Worth, TX, 76177; telephone (817) 222-5711.

SUPPLEMENTARY INFORMATION:

History

The Federal Register published a final rule amending Class E airspace at Minot International Airport, Minot, ND (81 FR 5903, February 4, 2016) Docket No. FAA-2015-7485. Subsequent to publication, the FAA found in amending the airport reference point for the airports and VORTAC, additional existing controlled airspace was inadvertently omitted from the rule. This action adds adjustment of the geographic coordinates in Class D airspace and Class E airspace extending upward from 700 feet above the surface for the Minot, ND, area.

Correction to Final Rule

Accordingly, pursuant to the authority delegated to me, in the Federal Register of February 4, 2016 (81 FR 5903) FR Doc. 2016-02036, Amendment of Class E Airspace, Minot, ND, is corrected as follows:

§ 71.1 [Amended]

On page 5905, column 1, after line 6, add the following text:

Paragraph 5000 Class D Airspace.

* * * * *

AGL ND D Minot, ND [Corrected]

Minot International Airport, ND

(Lat. 48°15′28″ N., long. 101°16′41″ W.)

That airspace extending upward from the surface to and including 4,200 feet MSL within a 4.2-mile radius of the Minot International Airport. This Class D airspace area is effective during the specific dates and times established in advance by a Notice to Airman. The effective date and time will thereafter be continuously published in the Airport/facility Directory.

AGL ND D Minot, ND [Corrected]

Minot Air Force Base, ND

(Lat. 48°24′57″ N., long. 101°21′29″ W.)

That airspace extending upward from the surface to and including 4,200 feet MSL within a 5.6-mile radius of Minot AFB. This Class D airspace area is effective during the specific dates and times established in advance by a Notice to Airman. The effective date and time will thereafter be continuously published in the Airport/facility Directory.

Paragraph 6005 Class E Airspace Areas Extending Upward From 700 Feet or More Above the Surface of the Earth.

* * * * *

AGL ND E5 Minot, ND [Corrected]

Minot AFB, ND

(Lat. 48°24′57″ N., long. 101°21′29″ W.)

Deering TACAN

(Lat. 48°24′55″ N., long. 101°21′58″ W.)

Minot International Airport, ND

(Lat. 48°15′28″ N., long. 101°16′41″ W.)

Minot VORTAC

(Lat. 48°15′37″ N., long. 101°17′13″ W.)

That airspace extending upward from 700 feet above the surface within a 7.1-mile radius of Minot AFB, and within 1.5 miles each side of the Deering TACAN 312° radial extending from the 7.1-mile radius of the AFB to 9.3 miles northwest of the AFB, and that airspace within a 7-mile radius of Minot International Airport, and within 4.8 miles each side of the Minot VORTAC 138° radial extending from the 7-mile radius of Minot International Airport to 12.1 miles southeast of the VORTAC; and that airspace extending upward from 1,200 feet above the surface within a 47-mile radius of Minot AFB, excluding the area north of latitude 49°00′00″ N.

Issued in Fort Worth, Texas, on February 18, 2016.
Walter Tweedy,
Acting Manager, Operations Support Group, ATO Central Service Center.

[FR Doc. 2016-04482 Filed 3-2-16; 8:45 am]

BILLING CODE 4910-13-P